DEPARTMENT OF STATE

[Public Notice 9229]

Advisory Committee on International Postal and Delivery Services September 2015 Meeting

SUMMARY: As required by the Federal Advisory Committee Act, Public Law 92-463, the Department of State gives notice of a meeting of the Advisory Committee on International Postal and Delivery Services. This Committee will meet on Wednesday, September 9, 2015, from 1:00 p.m. to 5:00 p.m. Eastern Time at the American Institute of Architects, Board Room, 1735 New York Avenue NW., Washington, DC 20006.

Any member of the public interested in providing input to the meeting should contact Ms. Shereece Robinson, whose contact information is listed below (see the For Further Information section of this notice). Each individual providing oral input is requested to limit his or her comments to five minutes. Requests to be added to the speakers list must be received in writing (letter or email) prior to the close of business on Wednesday, September 2, 2015; written comments from members of the public for distribution at this meeting must reach Ms. Robinson by letter or email this same date. A member of the public requesting reasonable accommodation should also make their request to Ms. Robinson by September 2. Requests received after that date will be considered but might not be able to be fulfilled.

The agenda of the meeting will include: Consideration of postal terminal dues, customs treatment of mail, and Universal Postal Union institutional issues.

FOR FURTHER INFORMATION CONTACT: Please contact Ms. Shereece Robinson of the Office of Specialized and Technical Agencies (IO/STA), Bureau of International Organization Affairs, U.S. Department of State, at tel. (202) 663-2649, by email at RobinsonSA2@state.gov, or by mail at IO/STA, Suite L-409 SA-1; U.S. Department of State; Washington, DC 20522.

Dated: August 13, 2015.
Joseph P. Murphy,
Designated Federal Officer, Advisory Committee on International Postal and Delivery Services, Office of Specialized and Technical Agencies, Bureau of International Organization Affairs, Department of State.

[FR Doc. 2015-20492 Filed 8-18-15; 8:45 am]

BILLING CODE 4710-19-P